COMMISSION ON CIVIL RIGHTS

Sunshine Act Notice

AGENCY: United States Commission on Civil Rights.

ACTION: Notice of closed portions of meeting.

SUMMARY: On November 12, 2009 (74 FR 58241) the U.S. Commission on Civil Rights announced a business meeting to be held on Friday, November 20, 2009 at the Commission's headquarters. On Friday, November 20, 2009 the Commission's General Counsel, David Blackwood, certified that portions of the meeting were appropriate to be closed pursuant to exemptions 2, 6, 9, and 10 of 45 CFR 702.53. A majority of the Commissioners present voted to close portions of the meeting pursuant to this certification. The Presiding Officer, Chairman Gerald Reynolds, issued a statement setting forth the time and location of the closed meeting and the persons present in closed session. A complete verbatim transcript and/or electronic recording of the closed proceedings will be maintained by the Commission.

The decision to close portions of the meeting was too close in time to the day of the meeting for the publication of a revised notice to appear in advance of the scheduled meeting date. The details of the meeting, including the portions which were closed to the public, are:

DATE AND TIME: Friday,November 20, 2009; 9:30 a.m. EST.

PLACE: 624 9th St., NW., Room 540, Washington, DC 20425.

Meeting Agenda

This meeting is open to the public, except where noted otherwise.

I. Approval of Agenda.

II. Program Planning.

• Motion Regarding Special Assistant GS Level. [Discussion of this agenda item was held in closed session.]

• Update on Status of Title IX Project. [Discussion of this agenda item was held in closed session.]

• Update on Status of 2010 Enforcement Report. [Discussion of this agenda item was held in closed session.]

• National Conference Update.

• Approval of Concept Papers for FY 2010 Briefing Topics.

• Amendments to Title IX Briefing Report.

• Approval of MEPA Briefing Report.

III. State Advisory Committee Issues.

• Iowa SAC.

• Massachusetts SAC.

IV. Management & Operations.

• Motion To Permit Commissioners' Special Assistants To Join Commissioners' Line for Telephonic Meetings.

V. Approval of September 24, October 8, October 15 and October 30 Meeting Minutes.

VI. Staff Director's Report.

VII. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: December 8, 2009.
David Blackwood,
General Counsel.

[FR Doc. E9-29577 Filed 12-8-09; 4:15 pm]

BILLING CODE 6335-01-P